DEPARTMENT OF AGRICULTURE

Food and Nutrition Service

Agency Information Collection Activities: Comment Request—Supplemental Nutrition Assistance Program—Trafficking Controls and Fraud Investigations

AGENCY: Food and Nutrition Service (FNS), USDA.

ACTION: Notice.

SUMMARY: In accordance with the Paperwork Reduction Act of 1995, this notice invites the general public and other public agencies to comment on this proposed information collection. This is a revision of a currently approved collection codified in Food and Nutrition Service (FNS) regulations.

DATES: Written comments must be received on or before January 6, 2020.

ADDRESSES: Comments may be sent to: Jane Duffield, Branch Chief, State Administration Branch, Program Accountability and Administration Division, Food and Nutrition Service, U.S. Department of Agriculture, 3101 Park Center Drive, Room 818, Alexandria, VA 22302. Comments may also be submitted via email to SM.FN.SNAPSAB@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Richard Duckworth at 703-305-4271.

SUPPLEMENTARY INFORMATION: This is a revision of a currently approved collection codified in FNS regulations at 7 CFR 274.6(b)(5) and 274.6(b)(6).

FNS' Supplemental Nutrition Assistance Program (SNAP) regulations at 7 CFR 274.6(b)(5) allow State agencies to deny a request for a replacement SNAP Electronic Benefit Transfer (EBT) card until the household makes contact with the State agency if the requests for replacement cards are determined to be excessive. The State agency may determine the threshold for excessive card replacments, not to be less than four replacement cards in a 12-month period.

FNS' SNAP regulations at 274.6(b)(6) require State agencies to monitor EBT card replacement requests and send notices to households when they request four cards within a 12-month period. The State agency shall be exempt from sending this Excessive Replacement Card Notice if it adopts the card withholding option in accordance with 7 CFR 274.6(b)(5) and sends the requisite Withholding Replacement Card Warning Notice on the fourth replacement card request.

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program: Trafficking Controls and Fraud Investigations.

OMB Number: 0584-0587.

Expiration Date: 1/31/2020.

Type of Request: Revision of a currently approved collection.

Abstract: FNS regulations at 7 CFR 274.6(b) requires State Agencies to issue warning notices to withhold replacement cards or a notice for excessive replacement cards.

Withhold Replacement Card Warning Notice: State agencies may require an individual member of a household to contact the State agency to provide an explanation in cases where the number of requests for card replacements is determined excessive. The State agency must notify the household in writing when it has reached the threshold, indicating that the next request for card replacement will require the client to contact the State agency to provide an explanation for the request, before the replacement card will be issued. The State agency must also notify the household in writing once the threshold has been exceeded and the State agency is withholding the card until contact is made.

Excessive Replacement Card Notice: State agencies must monitor all client requests for EBT card replacements and send a notice upon the fourth request in a 12-month period, alerting the household their account is being monitored for potential suspicious activity. The State agency is exempt from sending this notice if they have chosen to exercise the option to withhold the replacement card until contact is made with the State agency.

FNS is currently aware out of the 53 State agencies, six State agencies have opted to follow our regulations at 274.6(b)(5) to withhold replacement cards. All other State agencies follow our regulations at 274.6(b)(6) for the Excessive Replacement Card Notice.

Affected Public: Individuals/Households participating in SNAP and State, Local or Tribal Government Agencies that administer SNAP.

Estimated Number of Respondents: 238,697. Card replacement data, adjusted for changes in SNAP caseload, suggest that about 238,644 households request four replacement EBT cards within a 12-month period annually. These households, plus the 53 State agencies that must send the notices required by 7 CFR 274.6(b) make up the respondents.

Estimated of Responses per Respondent: There is an average estimated 2.11 responses for each respondent. See the table below for estimated responses for each type of respondent.

Estimated Total Annual Responses: 503,712 (251,856 individuals/households total annual response + 251,856 States agencies total annual response). See the table below for estimated responses for each type of respondent. Of the 238,644 households requesting four replacement EBT cards, about 26,424 are estimated to be in the six States where the agencies have opted to follow our regulations at 274.6(b)(5) to withhold replacement cards. FNS estimates that half of all recipients who receive a notice upon issuance of their fourth card will request a fifth card.

Estimated Time per Response: FNS estimates that it will take State personnel approximately 2 minutes to generate and mail each required notice to the client, to comply with 7 CFR 274.6; and that it will take SNAP recipients approximately 2 minutes to read each notice they receive and 28 minutes to make contact with the State agency when required. There is an average estimated time of 0.04557373 hours for each response.

Estimated Total Annual Burden on Respondents: 22,956 hours (14,560.85 burden hours for individuals/households and 8,396.20 for State agencies). The currently approved annual burden is 21,941 hours. The revision reflects two adjustments, neither of which is related to an FNS program change:

(1) Because the number of households participating in SNAP has decreased, we have fewer excessive replacement EBT card requests and therefore fewer notices, and

(2) more States opt to follow our regulations at 274.6(b)(5) to withhold replacement cards, which requires some households to make contact with the State agency if they request excessive replacement cards

See the table below for estimated total reporting annual burden for each type of respondent.

There is no recordkeeping or third-party disclosure burden contained in this information collection request.

Respondent | Activity | Estimated number respondents | Responses annually per respondent | Total annual responses | Estimated average number of hours per response | Estimated total hours
Individuals or Household (I/H) | Read Withhold Replacement Card Warning Notice (274.6(b)(5)) | 26,424 | 1.00 | 26,424 | 0.03 | 880.81
| Read Replacement Card Withheld Notice & Contact State Agency (274.6(b)(5)) | * 13,212 | 1.00 | 13,212 | 0.50 | 6,606.05
| Read Excessive Replacement Card Notice (274.6(b)(6)) | 212,220 | 1.00 | 212,220 | 0.03 | 7,073.99
Individuals/Households Subtotal |  | 238,644 |  | 251,856 |  | 14,560.85
State Agency | Send Withhold Replacement Card Warning Notice (274.6(b)(5)) | 6 | 4,404.03 | 26,424 | 0.03 | 880.81
| Send Replacement Card Withheld Notice (274.6(b)(5)) | 6 | 2,202.02 | 13,212 | 0.03 | 440.40
| Send Excessive Replacement Card Notice (274.6(b)(6)) | 47 | 4,515.31 | 212,220 | 0.03 | 7,073.99
State Agencies Subtotal |  | 53 |  | 251,856 |  | 8,395.20
Overall Grand Total Burden |  | 238,697 | 2.11 | 503,712 | 0.0455737 | 22,956.05
* Note: The 13,212 Individuals/Households SNAP participants are the same I/H accounted for in the 26,424 and therefore not double counted.

Dated: October 18, 2019.
Pamilyn Miller,
Administrator, Food and Nutrition Service.

[FR Doc. 2019-24097 Filed 11-5-19; 8:45 am]

BILLING CODE 3410-30-P